DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Association of American Railroads

(Modification To Waiver Petition Docket Number FRA-1999-5104)

As a modification to the Association of American Railroads (AAR) permanent waiver of compliance with 49 CFR 213.137, AAR is seeking permission from FRA to modify the terms and conditions of its decision letter dated June 27, 2000, pertaining to flange bearing frogs.

AAR, on behalf of its member railroads, received permission from FRA to install flange bearing frogs in its June 27, 2000, decision letter. FRA granted this relief conditionally, with a requirement for Equipment Inspections at all installations. In a decision letter dated May 3, 2006, AAR received further permission for CSX Transportation to specifically install a flange bearing frog in Shelby, Ohio.

With this petition, AAR is notifying FRA that it's Shelby, Ohio, flange bearing frog installation has been successful, and that the BNSF Railway Company (BNSF) will install 2 additional flange bearing frogs in Moorhead, Minnesota. AAR states, “This inspection requirement is costly and significantly delays the transportation of rail cars undergoing the inspections. In fact, it is because of this inspection requirement that the industry has been slow to install flange bearing frog crossing diamonds under the waiver.” Therefore, AAR requests that FRA relieve BNSF of this condition requiring equipment inspections.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-1999-5104) and may be submitted by any of the following methods:

Web site: http://www.regulations.gov. Follow the online instructions for submitting comments.

Fax: 202-493-2251.

Mail: Docket Operations Facility, U.S. Department of Transportation, 1200 New Jersey Avenue, SE., W12-140, Washington, DC 20590.

Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on May 15, 2005.
Grady C. Cothen, Jr.,
Deputy Associate Administrator for Safety Standards and Program Development.

[FR Doc. E8-11362 Filed 5-20-08; 8:45 am]

BILLING CODE 4910-06-P